DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of June and July, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) that sales or production, or both, of the firm or sub-division have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,335; Northern Indiana Public Service Co (NIPSCO), Merrillville, IN

TA-W-41,362; Vesuvius USA, Maple Grove Plant, Bettsville, OH

TA-W-41,399; BBA Nonwovens, Simpsonville, Inc., Lewisburg, PA

TA-W-41,405; Reilly Industries, Provo, UT

TA-W-41,413; T and T Land and Timber, Rexford, MT

TA-W-41,250; Tuthill Vacuum Systems, Canton, MA

TA-W-41,323; Hoffman Materials, Inc., Carlisle, PA

TA-W-41,418; RHO Industries, Buffalo, NY

TA-W-41,316; Quality Components, Klamath Falls, OR

TA-W-40,060; Lynchburg Foundry Co. A Div. Of Intermet Corp., Radford, VA

TA-W-40,259; National Refractories and Minerals Corp., Columbiana, OH

TA-W-40,617; Bull Moose Tube Co., Gerald, MO

TA-W-41,130; Tri-Star Refractories, Inc., A Subsidiary of RHI Refractories Holding Co., Cincinnati, OH

TA-W-41,260; Laird Technologies, Asheboro, NC

TA-W-41,322 & A; North American Refractories, A Subsidiary of RHI Holding, Indiana Hill Plant, Ione, CA and Ione Plant, Ione, CA

In the following cases, the investigation revealed that the criteria for eligibility have not been met for the reasons specified.

The workers firm does not produce an article as required for certification under Section 222 of the Trade Act of 1974.

TA-W-41,029; Parker Hannifin Corp., Precision Rebuilding Div., Reading, PA

TA-W-41,357; Stream International, Beaverton, OR

TA-W-41,222; Bechtel Jacob Co LLC, Piketon, OH

TA-W-41,315; Metal Processing Corp., Maple Heights, OH

TA-W-41,415; Electronic Data Systems, Maynard, MA

TA-W-41,341 & A; Clarinda Co., Clarinda, IA and Atlantic, IA

TA-W-41,430; Alcatel USA, Repair/Returns, Ogdensburg, NY

TA-W-41,419; BioMerieux, Inc., Instrument Service Dept., Oklahoma City, OK

The investigation revealed that criteria (2) has not been met. Sales or production did not decline during the relevant period as required for certification.

TA-W-41,400; Howmet Castings, Wichita Falls, TX

The investigation revealed that criteria (2) and (3) have not been met. Sales or production did not decline during the relevant period as required for certification. Increased imports did not contribute importantly to worker separations at the firm.

TA-W-41,401; ConAgra Foods, ConAgra Grocery Products Co., Milton, PA

Increased imports did not contribute importantly to worker separations at the firm.

TA-W-41,310; Baldwin Graphic Systems, Shelton, CT

TA-W-41,147; Boeing Commercial Aircraft Group, Salt Lake City, UT

TA-W-41,331; Ashland Specialty Chemical Co., Pittsburgh, PA

TA-W-41,450; Columbia River Egg Farm, Rufus, OR

Affirmative Determinations for Worker Adjustment Assistance

The following certifications have been issued; the date following the company name and location of each determination references the impact date for all workers of such determination.

TA-W-40,901; Integrated Logistics Solutions, New Hyde Park, NY: September 25, 2000.

TA-W-41,148; Brook Manufacturing Co., Union, MS: February 21, 2001.

TA-W-41,380; American Tissue Mills of Neenah, Neenah, WI: March 19, 2001.

TA-W-41,424; Ibiden Graphite of America Corp., Portland, OR: March 11, 2001.

TA-W-39,586; Moltech Power Systems, El Paso, TX: June 21, 2000.

TA-W-40,967; Tip Top Tees, Lanes, SC: December 28, 2000.

TA-W-41,132; B/E Aerospace, Inc., Cabin Interior Structures Group, Jacksonville, FL: February 25, 2001.

TA-W-41,273; Regal Garment Corp., New York, NY: March 7, 2001.

TA-W-41,343; Camfil Farr, Jonesboro, AR: March 28, 2001.

TA-W-40,351 & A; Quitman Manufacturing Co., Quitman, GA and Barwick Manufacturing, Barwick, GA: March 6, 2001.

TA-W-41,358; Owens-Brigham Medical Co., Headquarters, Morganton, NC: March 26, 2001

TA-W-41,379; Williamson Dickie Manufacturing Co., McAllen #9, McAllen, TX: April 9, 2001

TA-W-41,391; Victor Forstmann, Inc., Dublin, GA: March 22, 2001

TA-W-41,395; H.J. Seagrott Co., Inc., Berlin, NY: March 18, 2001

TA-W-41,440; Jervis B. Webb Col, New Hudson, MI: April 9, 2001

TA-W-41,443; Carter Footwear, Inc., Wilkes-Barre, PA: January 20, 2002

TA-W-41,444; Joseph Timber Co., Joseph, OR: March 7, 2001.

TA-W-41,456; New Images, Inc., Reidsville, NC: March 27, 2001.

TA-W-40,460; Radax Industries, Webster, NY: October 22, 2000.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the months of June and July, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05879; ConAgra Foods, ConAgra Grocery Products Co., Milton, PA

NAFTA-TAA-05358; Do Group Holding, Inc., Systems—Marked Tree Div., Marked Tree, AR

NAFTA-TAA-05720; Hershey Chocolate & Confectionary Corp., Jolly Rancher Div., Wheat Ridge, CO

NAFTA-TAA-06011; McCain Foods USA, Inc., Anchor Appetizer Group, Appleton, WI

NAFTA-TAA-06017; Ashland Specialty Chemical Co., Pittsburgh, PA.

NAFTA-TAA-06045; BBA Nonwovens Simpsonville, Inc., Lewisburg, PA

NAFTA-TAA-06256; Alexander Garment, Hialeah, FL

The investigation revealed that the criteria for eligibility have not been met for the reasons specified.

The investigation revealed that workers of the subject firm did not produce an article within the meaning of Section 250(a) of the Trade Act, as amended.

The investigation revealed that criteria (2) has not been met. Sales or production did not decline during the relevant period as required for certification.

NAFTA-TAA-6160; Square D Co., Schneider Electric, Lincoln, NE

Affirmative Determinations NAFTA-TAA

NAFTA-TAA-06073; American Tissue Mills of Neenah, Neenah, WI: January 17, 2001.

NAFTA-TAA-05443; Barranco Apparel Group, Ruth of Carolina Div., Hendersonville, NC: October 11, 2000.

NAFTA-TAA-06070; Williamson Dickie Manufacturing Co., McAllen#9, McAllen, TX: April 9, 2001.

NAFTA-TAA-06072; Germantown (USA) Co., West Chester, PA: March 10, 2001.

NAFTA-TAA-06081; Cummins, Inc., Cummins Power Generation, Fridley, MN: April 2, 2002.

NAFTA-TAA-06204; Victor Forstmann, Inc., Dublin, GA: March 20, 2001.

I hereby certify that the aforementioned determinations were issued during the months of June and July, 2002. Copies of these determinations are available for inspection in Room C-5311, U.S. Department of Labor, 200 Constitution Avenue, NW., Washington, DC 20210 during normal business hours or will be mailed to persons who write to the above address.

Dated: July 10, 2002.
Edward A. Tomchick,
Director, Division of Trade Adjustment Assistance.

[FR Doc. 02-18071 Filed 7-17-02; 8:45 am]

BILLING CODE 4510-30-P